DEPARTMENT OF TRANSPORTATION

National Highway Traffic Safety Administration

[Docket Number NHTSA-2019-0146]

Agency Information Collection Activities; Notice and Request for Comment; Platform Lift Systems for Motor Vehicles

AGENCY: National Highway Traffic Safety Administration (NHTSA), Department of Transportation (DOT).

ACTION: Notice and request for comments on a reinstatement of a previously-approved information collection.

SUMMARY: Before a Federal agency can collect certain information from the public, it must receive approval from the Office of Management and Budget (OMB). Under procedures established by the Paperwork Reduction Act, before seeking OMB approval, Federal agencies must solicit public comment on proposed collections of information, including extensions and reinstatements of previously approved collections. This document describes an Information Collection Request (ICR) for which NHTSA intends to seek OMB approval.

DATES: Comments must be received on or before April 6, 2020.

ADDRESSES: You may submit comments identified by the Docket No. DOT-NHTSA-2019-0146 through any of the following methods:

• Federal eRulemaking Portal: http://www.regulations.gov. Follow the online instructions for submitting comments.

• Fax: 1-202-493-2251.

• Mail or Hand Delivery: Docket Management, U.S. Department of Transportation, 1200 New Jersey Avenue SE, West Building, Room W12-140, Washington, DC 20590, between 9 a.m. and 5 p.m., Monday through Friday, except on Federal holidays.

FOR FURTHER INFORMATION CONTACT: Michael Pyne, 202-366-4171, Office of Rulemaking (NRM230), National Highway Traffic Safety Administration, U.S. Dept. of Transportation, 1200 New Jersey Avenue SE, Room W43-457, Washington, DC 20590. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information.

In compliance with these requirements, NHTSA asks for public comments on the following proposed collection of information:

Title: 49 CFR 571.403, Platform lift systems for motor vehicles, and 49 CFR 571.404, Platform lift installations in motor vehicles.

OMB Control Number: 2127-0621.

Type of Request: Reinstatement without change of a previously approved information collection.

Type of Review: Regular.

Requested Expiration Date of Approval: 3 years from date of approval.

Abstract: Federal Motor Vehicle Safety Standard (FMVSS) No. 403, Platform lift systems for motor vehicles, establishes minimum performance standards for platform lifts intended for installation in motor vehicles to assist wheelchair users and other persons of limited mobility in entering and exiting a vehicle. The standard's purpose is to prevent injuries and fatalities to passengers and bystanders during the operation of platform lifts. The related standard FMVSS No. 404, Platform lift installations in motor vehicles, establishes specific requirements for vehicle manufacturers or alterers that install platform lifts in new vehicles. Lift manufacturers must certify that their lifts meet the requirements of FMVSS No. 403 and must declare in the owner's manual, in the installation instructions, and on the operating instruction label that the lift is certified. Certification of compliance with FMVSS No. 404 is included on the vehicle certification label required on all motor vehicles under 49 CFR part 567. Both FMVSS No. 403 and FMVSS No. 404 contain requirements related to information collections. FMVSS No. 403 requires lift manufacturers to produce an insert that is placed in the vehicle owner's manual and lift installation instructions. Additionally, lift manufacturers must affix either one or two labels to be placed near the controls for the lift. The latter illustrate and describe procedures for operating the lift. Our estimates of burden and cost to lift manufacturers to meet these requirements are described below. FMVSS No. 404 requires manufacturers or alterers that install platform lifts to insert the instructions provided by the lift manufacturer into the vehicle owners' manuals and ensure that labels with lift operating procedures are affixed to a location adjacent to the controls.

Affected Public: Platform lift manufacturers and vehicle manufacturers or alterers that install platform lifts in motor vehicles prior to first vehicle sale. There is no burden to the general public.

Estimated Number of Respondents: 10.

NHTSA estimates that there are 10 platform lift manufacturers doing business at a given time. Platform lift manufacturers typically have a design cycle of approximately 5 years. Therefore, there are aspects of the information collection that only require the manufacturers to incur burden every 5 years, such as changing the owner's manual inserts and labels. However, other aspects of the information collection, such as printing the inserts and labeling the lifts, require manufacturers to incur burden every year.

Estimated Total Annual Burden Hours: 1,562 hours.

NHTSA estimates that a total of 10 lift manufacturers will incur 1,562 hours of burden annually. This estimate is comprised of time to make changes to required language and the time to distribute that information by affixing labels or placards, placing inserts into owners' manuals, and providing installation instructions.

NHTSA estimates that every year approximately two lift manufacturers will need to change the language of the insert for the vehicle owners' manual stating the lift's platform operating volume, maintenance schedule, and operating procedures. NHTSA estimates that it will take manufacturers approximately 24 hours to make those changes. Therefore, NHTSA estimates that changes to the owners' manual inserts will take 48 hours annually (2 manufacturers × 24 hrs = 48 hours per year).

NHTSA estimates that every year approximately two manufacturers will need to change the installation instructions identifying the types of vehicles on which each lift is designed to be installed. NHTSA estimates that it will take manufacturers approximately 24 hours to make those changes. Therefore, NHTSA estimates that changes to the installation instructions will take 48 hours annually (2 manufacturers × 24 hrs = 48 hours per year).

NHTSA estimates that every year approximately two manufacturers will need to make changes to labels or placards which identify the operating functions of the lift. NHTSA estimates that it will take manufacturers approximately 24 hours to make those changes. Therefore, NHTSA estimates that changes to the labels or placards for lift functions will take 48 hours annually (2 manufacturers × 24 hrs = 48 hours per year).

NHTSA estimates that every year approximately two lift manufacturers will need to make changes to labels and placards detailing back-up operating procedures. NHTSA estimates that it will take manufacturers approximately 24 hours to make those changes. Therefore, NHTSA estimates that changes to the language of labels or placards for back-up operating procedures will take 48 hours annually (2 manufacturers × 24 hrs = 48 hours per year).

In addition to making periodic changes to the wording of the owners' manual inserts, installation instructions, label or placard for lift operating procedures, and the label or placard for lift back-up operation, lift manufacturers also incur burden associated with distributing that information by affixing labels or placards, placing inserts into owners' manuals, and providing installation instructions.

NHTSA estimates that there will be 27,398 lifts manufactured in each of the next three years. NHTSA estimates that distributing the required information will take approximately 3 minutes per lift or approximately 1,370 hours for all lifts annually (27,398 lifts × 3 minutes per lift = 82,194 minutes, 82,194 minutes ÷ 60 = 1,370 hours).

| Lift manufacturers | Hours to make change | Annual hours
Per Year Insert Language | 2 | 24 | 48
Per Year Install Instruct | 2 | 24 | 48
Per Year Label Change/Operating | 2 | 24 | 48
Per Year Label Change/Back-up | 2 | 24 | 48
| Lifts-each year next 3 years | Mins. to distribute | Total hours
Distribution | 27,398 | 3 | 1,370
Estimated Total Burden Hours |  |  | 1,562

Estimated Cost for This Information Collection:

The cost of this collection of information will comprise printing costs and hourly labor costs. NHTSA's estimate of printing costs can be broken down as follows:

Owner's manual insert—27,398 lifts × $0.04 per page × 1 page = $1,095.92

Installation instructions—27,398 lifts × $0.04 per page × 1 page = $1,095.92

Label/placard for lift operating procedures—27,398 lifts × $0.13 per label = $3,561.74

Label/placard for lift backup operation—27,398 lifts × $0.13 per label = $3,561.74

Based on this breakdown, NHTSA estimates the total printing cost associated with this information collection is $9,315.32 annually.

| Lifts-each year next 3 years | Per unit | Total cost
Owner's Manual Insert | 27,398 | $0.04 | $1,095.92
Install Instructions | 27,398 | 0.04 | 1,095.92
Label Change/Operating Procedure | 27,398 | 0.13 | 3,561.74
Label Change/Back-up Operation | 27,398 | 0.13 | 3,561.74
Estimated Annual Printing Cost for This Information Collection |  |  | 9,315.32

The labor cost is derived by applying appropriate hourly labor rates published by the Bureau of Labor Statistics ¹ (BLS) to the hourly burden discussed previously in this notice. There are two categories of labor involved. First, for “Assemblers and Fabricators” (Occupation code 51-2000) with an average wage of $22.94/hour, the labor rate is $32.72/hour (based on BLS statistics showing wages for private industry workers are 70.1 percent of total compensation ²). Multiplying that hourly labor rate by the estimated 1,370 labor hours needed annually to affix and distribute the required informational materials yields an annual labor cost of $44,832.81. Second, for “Technical Writers” (Occupation code 27-3042) with an average wage of $33.98/hour, the labor rate is $47.47/hour. Multiplying that hourly labor rate by the estimated 192 labor hours needed for revisions to labels and printed materials yields an annual labor cost of $9,306.93.

¹ Available online at https://www.bls.gov/oes/current/naics4_336100.htm.

² See Table 1 at https://www.bls.gov/news.release/pdf/ecec.pdf.

The total annual labor cost is thus estimated to be $54,139.74.

| Average wage | Percent of total compensation | Labor rate | Annual hours | Annual labor cost
Assemblers and Fabricators | $22.94 | 70.1 | $32.72 | 1,370 | $44,832.81
Technical Writers | 33.98 | 70.1 | 48.47 | 192 | 9,306.93
Estimated Annual Labor Cost for This Information Collection |  |  |  |  | 54,139.74

Combining the above estimated printing costs and estimated labor costs, NHTSA estimates that the total cost of this information collection is $63,455.06 per year.

Estimated Annual Printing Cost for This Information Collection | $9,315.32
Estimated Annual Labor Cost for This Information Collection | 54,139.74
Combined Estimated Annual Printing Cost & Labor Cost for This Information Collection | 63,455.06

Public Comments Invited: The OMB has promulgated regulations describing what must be included in such a document. Under OMB's regulation at 5 CFR 1320.8(d), an agency must ask for public comment on the following: (1) Whether the proposed collection of information is necessary for the proper performance of the functions of the agency, including whether the information will have practical utility; (2) the accuracy of the agency's estimate of the burden of the proposed collection of information, including the validity of the methodology and assumptions used; (3) how to enhance the quality, utility, and clarity of the information to be collected; and (4) how to minimize the burden of the collection of information on those who are to respond, including the use of appropriate automated, electronic, mechanical, or other technological collection techniques or other forms of information technology, e.g., permitting electronic submission of responses.

Authority: The Paperwork Reduction Act of 1995; 44 U.S.C. chapter 35; and delegation of authority at 49 CFR 1.95 and 501.8.

Raymond R. Posten,
Associate Administrator for Rulemaking.

[FR Doc. 2020-02297 Filed 2-5-20; 8:45 am]

BILLING CODE 4910-59-P